DEPARTMENT OF TRANSPORTATION

Federal Aviation Administration

14 CFR Part 39

[Docket No. FAA-2008-0899; Directorate Identifier 2008-NM-022-AD]

RIN 2120-AA64

Airworthiness Directives; Honeywell Flight Management Systems (FMSs) Equipped with Honeywell NZ-2000 Navigation Computers and Honeywell IC-800 or IC-800E Integrated Avionics Computers; as Installed on Various Transport Category Airplanes

AGENCY: Federal Aviation Administration (FAA), Department of Transportation (DOT).

ACTION: Notice of proposed rulemaking (NPRM).

SUMMARY: The FAA proposes to supersede an existing airworthiness directive (AD) that applies to all Honeywell FMSs served by Honeywell NZ-2000 navigation computers and IC-800 integrated avionics computers. The existing AD currently requires identifying affected computers by part number and software modification level and revising the Limitations section of applicable airplane flight manuals to provide procedures for retaining optimum position determination and intended navigation. This proposed AD would require uploading new software, which would terminate the existing requirements. This proposed AD results from reports of in-flight unannunciated shifts of computed position in airplanes with the subject FMS computers. We are proposing this AD to prevent a shift in the FMS computed position, which could result in uncommanded deviations from the intended flight path of the airplane and, if those deviations are undetected by the flight crew, compromised terrain/traffic avoidance.

DATES: We must receive comments on this proposed AD by October 6, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Honeywell, P.O. Box 21111, Phoenix, AZ 85036-1111.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: J. Kirk Baker, Aerospace Engineer, Systems and Equipment Branch, ANM-130L, FAA, Los Angeles Aircraft Certification Office, 3960 Paramount Boulevard, Lakewood, California 90712-4137; telephone (562) 627-5345; fax (562) 627-5210.

SUPPLEMENTARY INFORMATION:

Comments Invited

We invite you to send any written relevant data, views, or arguments about this proposed AD. Send your comments to an address listed under the ADDRESSES section. Include “Docket No. FAA-2008-0899; Directorate Identifier 2008-NM-022-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 23, 2007, we issued AD 2007-07-12, amendment 39-15009 (72 FR 15818, April 3, 2007), for all Honeywell flight management systems (FMSs) served by Honeywell NZ-2000 navigation computers and IC-800 integrated avionics computers. That AD requires identifying affected computers by part number and software modification level and revising the Limitations section of applicable airplane flight manuals (AFM) to provide procedures for retaining optimum position determination and intended navigation. That AD resulted from reports of in-flight unannunciated shifts of computed position in airplanes with the subject FMS computers. We issued that AD to prevent a shift in the FMS computed position, which could result in uncommanded deviations from the intended flight path of the airplane and, if those deviations are undetected by the flight crew, compromised terrain/traffic avoidance.

Actions Since Existing AD Was Issued

The preamble to AD 2007-07-12 specified that we considered the requirements “interim action” and that the manufacturer was developing a modification to address the unsafe condition. That AD explained that we might consider further rulemaking if a modification is developed, approved, and available. The manufacturer now has developed such a modification, and we have determined that further rulemaking is indeed necessary; this proposed AD follows from that determination.

Relevant Service Information

We have reviewed Honeywell Alert Service Bulletin 7017300-22-A6112, dated June 22, 2007. This service bulletin describes procedures for uploading new software in a certain IC-800 or IC-800E integrated avionic computer (IAC), as applicable. We also have reviewed Honeywell Alert Service Bulletins 7018879-34-A6060, Revision 001, dated January 21, 2008; 7018879-34-6061, Revision 001, dated January 21, 2008; 7018879-34-A6062, dated June 12, 2007; and 7018879-34-A6063, dated July 6, 2007. These service bulletins describe procedures for uploading new software in certain NZ-2000 navigation computers (NAV computer). Accomplishing the actions specified in the service information is intended to adequately address the unsafe condition.

FAA's Determination and Requirements of the Proposed AD

We have evaluated all pertinent information and identified an unsafe condition that is likely to develop on other products of the same type design. For this reason, we are proposing this AD, which would supersede AD 2007-07-12 and would retain the requirements of the existing AD. This proposed AD would require accomplishing the actions specified in service bulletins described previously, which would constitute terminating action for the retained requirements.

Differences Between Proposed Rule and Service Bulletins

Although the service bulletins recommend installing the new software “as manpower and material are available,” we have determined that this imprecise compliance time would not address the identified unsafe condition in a timely manner. In developing an appropriate compliance time for this AD, we considered not only the manufacturer's recommendation, but the degree of urgency associated with addressing the subject unsafe condition, the average utilization of the affected fleet, and the time necessary to upload the new software. In light of all of these factors, we find a compliance time of 12 months for completing the proposed actions to be warranted, in that it represents an appropriate interval of time for affected airplanes to continue to operate without compromising safety.

Change to Existing AD

We find that Honeywell Model IC-800E IAC was not specifically identified by model name in the applicability of AD 2007-07-12. However, that IAC was identified by manufacturer's part number 7017300-56023 in the effectivity listing of Honeywell Technical Newsletter A23-6111-008, Revision 001, dated February 22, 2007, which was referenced in AD 2007-07-12 as the appropriate source of service information for accomplishing the required actions. Therefore, we have revised the applicability of this proposed AD to specifically reference Model IC-800E IAC in addition to Model IC-800 IAC, where appropriate.

Costs of Compliance

There are about 104 airplanes of the affected design in the worldwide fleet. The following table provides the estimated costs for U.S. operators to comply with this proposed AD.

Estimated Costs
Action | Work hour | Average labor rate per hour | Cost per airplane | Number of U.S.-registered airplanes | Fleet cost
AFM revision (required by AD 2007-07-12) | 1 | $80 | $80 | 77 | $6,160
Terminating action (new proposed action) | 1 | 80 | 80 | 77 | 6,160

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-15009 (72 FR 15818, April 3, 2007) and adding the following new airworthiness directive (AD):

Honeywell, Inc.: Docket No. FAA-2008-0899; Directorate Identifier 2008-NM-022-AD.

Comments Due Date

(a) The FAA must receive comments on this AD action by October 6, 2008.

Affected ADs

(b) This AD supersedes AD 2007-07-12.

Applicability

(c) This AD applies to all Honeywell NZ-2000 navigation computers and Honeywell IC-800 or IC-800E integrated avionics computers; as installed on transport category airplanes, certificated in any category, including but not limited to the airplanes identified in Table 1 of this AD.

Table 1—Known Affected Airplanes
Manufacturer | Model
Bombardier, Inc | CL-600-2B16 (CL-601-3A, CL-601-3R, and CL-604) airplanes.
Dassault Aviation | Mystere-Falcon 900 airplanes.
Gulfstream Aerospace Corporation | G-1159A and GV airplanes, and G-IV series airplanes.
Lockheed | 382G series airplanes.
Hawker Beechcraft (formerly Raytheon Aircraft Company) | BAe.125 Series 800A (including C-29A and U-125) airplanes.
| Hawker 800XP and 1000 airplanes.

Unsafe Condition

(d) This AD results from in-flight unannunciated shifts of computed position in airplanes with the subject flight management system (FMS) computers identified in paragraph (c) of this AD. We are issuing this AD to prevent a shift in the FMS computed position, which could result in uncommanded deviations from the intended flight path of the airplane and, if those deviations are undetected by the flight crew, compromised terrain/traffic avoidance.

Compliance

(e) You are responsible for having the actions required by this AD performed within the compliance times specified, unless the actions have already been done.

Requirements of AD 2007-07-12

Identification of Part Number/Modification Level

(f) Within 14 days after April 18, 2007 (the effective date of AD 2007-07-12): Determine if the installed NZ-2000 navigation computers and IC-800 or IC-800E integrated avionics computers serving FMSs have computer part numbers and software modification levels identified in Honeywell Technical Newsletter A23-6111-008, Revision 001, dated February 22, 2007. For purposes of this AD, airplanes with FMS computers having a part number and software modification level identified in the newsletter are “affected airplanes.”

Revision of Airplane Flight Manual (AFM)

(g) For any affected airplane: Within 14 days after April 18, 2007, revise the Limitations section of the applicable AFM to incorporate the information included in Appendix A of Honeywell Technical Newsletter A23-6111-008, Revision 001, dated February 22, 2007. This may be done by inserting a copy of Appendix A of the newsletter into the AFM.

New Requirements of This AD

Terminating Action

(h) Within 12 months after the effective date of this AD, upload applicable software as specified in Table 2 of this AD. After uploading the applicable software, the requirements of paragraphs (f) and (g) of this AD are no longer necessary, and the AFM revision required by paragraph (g) of this AD may be removed.

Table 2—Terminating Action
Upload new software in— | In accordance with the Accomplishment Instructions of— | For—
(1) The IC-800 or IC-800E integrated avionic computer (IAC), as applicable | Honeywell Alert Service Bulletin 7017300-22-A6112, dated June 22, 2007 | The IAC identified in the service bulletin.
(2) The NZ-2000 navigation computer (NAV computer) | Honeywell Alert Service Bulletin 7018879-34-A6060, Revision 001, dated January 21, 2008 | The NAV computer identified in the service bulletin.
| Honeywell Service Bulletin 7018879-34-6061, Revision 001, dated January 21, 2008 | The NAV computer identified in the service bulletin.
| Honeywell Alert Service Bulletin 7018879-34-A6062, dated June 12, 2007 | The NAV computer identified in the service bulletin.
| Honeywell Alert Service Bulletin 7018879-34-A6063, dated July 6, 2007 | The NAV computer identified in the service bulletin.

Alternative Methods of Compliance (AMOCs)

(i)(1) The Manager, Los Angeles Aircraft Certification Office, FAA, ATTN: J. Kirk Baker, Aerospace Engineer, Systems and Equipment Branch, ANM-130L, FAA, Los Angeles Aircraft Certification Office, 3960 Paramount Boulevard, Lakewood, California 90712-4137; telephone (562) 627-5345; fax (562) 627-5210; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on August 6, 2008.
Ali Bahrami,
Manager, Transport Airplane Directorate, Aircraft Certification Service.

[FR Doc. E8-19361 Filed 8-20-08; 8:45 am]

BILLING CODE 4910-13-P